DEPARTMENT OF ENERGY

Federal Energy Regulatory Commission

Notice of Intent To File License Application, Filing of Pre-Application Document, and Approving Use of the Traditional Licensing Process

| Project Nos.
Free Flow Power Corporation | P-13334-001
| P-13335-001
| P-13336-001
| P-13337-001

a. Type of Filing: Notice of Intent to File License Application and Request to Use the Traditional Licensing Process.

b. Project Nos. 13334-001, 13335-001, 13336-001, and 13337-001.

c. Dated Filed: January 10, 2011.

d. Submitted By: Free Flow Power Corporation (Free Flow Power), on behalf of its subsidiaries FFP Project 31, LLC et al.

e. Name of Projects: Mississippi Lock & Dam No. 3 Project, P-13334-001; Mississippi Lock & Dam No. 4 Project, P-13335-001; Mississippi Lock & Dam No. 6 Project, P-13336-001; and Mississippi Lock & Dam No. 7 Project, P-13337-001.

f. Location: At existing locks and dams owned and operated by the U.S. Army Corps of Engineers on the Upper Mississippi River in Minnesota, Iowa, and Wisconsin. (See table below for specific project locations.)

Project No. | Projects | County(s)/state(s) | City/town
P-13334 | Mississippi Lock and Dam No. 3 | Pierce, WI, Goodhue, MN | 6 miles north of Red Wing, MN.
P-13335 | Mississippi Lock and Dam No. 4 | Buffalo, WI, Wabasha, MN | Near the city of Alma, WI.
P-13336 | Mississippi Lock and Dam No. 6 | Trempealeau, WI, Winona, MN | Southern shore of Trempealeau, WI.
P-13337 | Mississippi Lock and Dam No. 7 | LaCrosse, WI, Winona, MN, Houston, MN | 2.75 miles north of La Crescent, MN.

g. Filed Pursuant to: Federal Power Act, 16 U.S.C. 808(b)(1) and 18 CFR 5.5 of the Commission's regulations.

h. Potential Applicant Contact: Ramya Swaminathan, Chief Operating Officer, Free Flow Power, 239 Causeway Street, Boston, MA 02114-2130; or at (978) 283-2822.

i. FERC Contact: Aaron Liberty at (202) 502-6862; or e-mail at aaron.liberty@ferc.gov.

j. On January 10, 2011, Free Flow Power filed its request to use the Traditional Licensing Process and provided public notice of its request. In a letter dated March 11, 2011, the Director, Division of Hydropower Licensing, approved the request to use the Traditional Licensing Process.

k. With this notice, we are initiating informal consultation with: (a) The U.S. Fish and Wildlife Service and NOAA Fisheries under section 7 of the Endangered Species Act and the joint agency regulations thereunder at 50 CFR part 402; (b) NOAA Fisheries under section 305(b) of the Magnuson-Stevens Fishery Conservation and Management Act and implementing regulations at 50 CFR 600.920; and (c) the Minnesota, Wisconsin, and Iowa State Historic Preservation Officers, as required by section 106 of the National Historic Preservation Act, and the implementing regulations of the Advisory Council on Historic Preservation at 36 CFR 800.2.

l. With this notice, we are designating Free Flow Power as the Commission's non-Federal representative for carrying out informal consultation, pursuant to section 7 of the Endangered Species Act, section 305 of the Magnuson-Stevens Fishery Conservation and Management Act, and section 106 of the National Historic Preservation Act.

m. Free Flow Power filed a Pre-Application Document (PAD), including a proposed process plan and schedule with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via e-mail of new filing and issuances related to this or other pending projects. For assistance, contact FERC Online Support.

Dated: March 23, 2011.
Kimberly D. Bose,
Secretary.

[FR Doc. 2011-7351 Filed 3-28-11; 8:45 am]

BILLING CODE 6717-01-P